DEPARTMENT OF COMMERCE

International Trade Administration

[A-533-820]

Certain Hot-Rolled Carbon Steel Flat Products From India: Rescission of Antidumping Duty Administrative Review

AGENCY: Import Administration, International Trade Administration, Department of Commerce.

DATES: Effective Date: April 30, 2012.

FOR FURTHER INFORMATION CONTACT: George McMahon or James Terpstra, AD/CVD Operations Office 3, Import Administration, International Trade Administration, U.S. Department of Commerce, 14th Street and Constitution Avenue NW., Washington, DC 20230; telephone: (202) 482-1167 and (202) 482-3965, respectively.

SUPPLEMENTARY INFORMATION:

Background

On December 1, 2011, the Department published in the Federal Register a notice announcing the opportunity to request an administrative review of the antidumping duty order on certain hot-rolled carbon steel flat products from India for the period December 1, 2010, through November 30, 2011. See Antidumping or Countervailing Duty Order, Finding, or Suspended Investigation; Opportunity To Request Administrative Review, 76 FR 74773, 74774 (December 1, 2011).

On December 30, 2011, and January 3, 2012, Nucor Corporation and U.S. Steel Corporation (collectively, “Petitioners”) timely requested that the Department conduct an administrative review of Essar Steel Limited (“Essar”), Ispat Industries Limited (“Ispat”), JSW Steel Limited (“JSW”), and Tata Steel Limited (“Tata”). Pursuant to these requests and in accordance with 19 CFR 351.221(c)(1)(i), the Department published a notice initiating the administrative review of Essar, Ispat, JSW, and Tata. See Initiation of Antidumping and Countervailing Duty Administrative Reviews and Requests for Revocation in Part, 77 FR 4759 (January 31, 2012).

On January 31, 2012, the Department placed on the record and invited interested parties to comment on U.S. Customs and Border Protection (“CBP”) data, which the Department stated it would use for respondent selection in the instant review. See Memorandum to the File from George McMahon, Senior International Trade Analyst, through Melissa Skinner, Office Director, concerning “Certain Hot Rolled Carbon Steel Flat Products from India: Customs and Border Protection Data for Selection of Respondents for Individual Review,” dated January 31, 2012. We received no comments from interested parties on the CBP data.

On February 1, 7, 14, and 15, 2012, JSW, Tata, Essar, and Ispat, respectively, submitted letters informing the Department that they did not make shipments of subject merchandise to the United States during the period of review.

On March 7, 2012 and March 29, 2012, respectively, Nucor Corporation and U.S. Steel Corporation timely withdrew their respective requests for review of Essar, Ispat, JSW, and Tata.

Rescission of Review

Pursuant to 19 CFR 351.213(d)(1), the Secretary will rescind an administrative review, in whole or in part, if the parties that requested a review withdraw the request within 90 days of the date of publication of the notice of initiation of the requested review. As noted above, Petitioners withdrew their respective requests for review of Essar, Ispat, JSW, and Tata within 90 days of the date of publication of the notice of initiation. Moreover, no other interested party requested an administrative review of these respondents. Therefore, in accordance with 19 CFR 351.213(d)(1) and consistent with our practice, we are rescinding this review with respect to Essar, Ispat, JSW, and Tata, and in its entirety.¹

¹ See, e.g., Certain Lined Paper Products From India: Notice of Partial Rescission of Antidumping Duty Administrative Review and Extension of Time Limit for the Preliminary Results of Antidumping Duty Administrative Review, 74 FR 21781, 21783 (May 11, 2009).

Assessment

The Department will instruct CBP to assess antidumping duties on all appropriate entries. For Essar, Ispat, JSW, and Tata, antidumping duties shall be assessed at rates equal to the cash deposit of estimated antidumping duties required at the time of entry, or withdrawal from warehouse, for consumption, in accordance with 19 CFR 351.212(c)(1)(i). The Department intends to issue appropriate assessment instructions to CBP 15 days after the date of publication of this notice of rescission of administrative review.

Notification to Importers

This notice also serves as a final reminder to importers of their responsibility under 19 CFR 351.402(f) to file a certificate regarding the reimbursement of antidumping and/or countervailing duties prior to liquidation of the relevant entries during this review period. Failure to comply with this requirement could result in the presumption that reimbursement of antidumping and/or countervailing duties occurred and the subsequent increase in antidumping duties by the amount of antidumping and/or countervailing duties reimbursed.

Notification Regarding Administrative Protective Order

This notice serves as a final reminder to parties subject to administrative protective order (“APO”) of their responsibility concerning the disposition of proprietary information disclosed under an APO in accordance with 19 CFR 351.305(a)(3). Timely written notification of the return/destruction of APO materials or conversion to judicial protective order is hereby requested. Failure to comply with the regulations and terms of an APO is a sanctionable violation.

This notice is issued and published in accordance with sections 751(a)(1) and 777(i)(1) of the Tariff Act of 1930, as amended, and 19 CFR 351.213(d)(4).

Dated: April 24, 2012.
Christian Marsh,
Deputy Assistant Secretary for Antidumping and Countervailing Duty Operations.

[FR Doc. 2012-10351 Filed 4-27-12; 8:45 am]

BILLING CODE 3510-DS-P